DEPARTMENT OF THE INTERIOR

Fish and Wildlife Service

[FWS-R2-R-2012-N019; FXRS12610200000S3-123-FF02R06000]

Trinity River National Wildlife Refuge, Liberty County, TX; Comprehensive Conservation Plan and Environmental Assessment

AGENCY: Fish and Wildlife Service, Interior.

ACTION: Notice of availability; request for comments.

SUMMARY: We, the U.S. Fish and Wildlife Service (Service), announce the availability of a draft comprehensive conservation plan (CCP) and an environmental assessment (EA) for Trinity River National Wildlife Refuge (Refuge, NWR), located approximately 50 miles northeast of Houston, Texas, for public review and comment. The Draft CCP/EA describes our proposal for managing the refuge for the next 15 years.

DATES: To ensure consideration, please send your written comments by May 4, 2012. We will announce upcoming public meetings in local news media.

ADDRESSES: You may submit comments or requests for copies or more information by any of the following methods. You may request hard copies or a CD-ROM of the documents. Please contact Stuart Marcus, Refuge Manager, or Joseph Lujan, Natural Resource Planner.

Email: Joseph_Lujan@fws.gov. Include “Trinity River NWR draft CCP and EA” in the subject line of the message.

Fax: Attn: Joseph Lujan, 505-248-6803.

U.S. Mail: Joseph Lujan, Natural Resource Planner, U.S. Fish and Wildlife Service, NWRS Division of Planning, P.O. Box 1306, Albuquerque, NM 87103.

In-Person Drop-off, Viewing, or Pickup: In-Person Drop-off: You may drop off comments during regular business hours (8 a.m. to 4:30 p.m.) at 500 Gold Street SW., 4th Floor, Room. 4305, Albuquerque, NM 87102.

FOR FURTHER INFORMATION CONTACT: Stuart Marcus, Refuge Manager, Trinity River NWR, CCP—Project, P.O. Box 10015, Liberty, TX 77575; phone: 936-336-9786; fax: 936-336-9847.

SUPPLEMENTARY INFORMATION:

Introduction

With this notice, we continue the CCP process for the Trinity River NWR. We started this process through a notice in the Federal Register (72 FR 45059; August 10, 2007).

The Trinity River NWR, which consists of over 25,000 acres, is located approximately 50 miles northeast of Houston, and 40 miles west of Beaumont Texas. The primary purpose of the refuge is to protect a remnant of the bottomland hardwood forest ecosystem along the Trinity River. The refuge was officially established on January 4, 1994, and continues to acquire, restore, and preserve bottomland hardwood forests.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for wildlife observation and photography, and environmental education and interpretation. We will review and update the CCP at least every 15 years in accordance with the Refuge Administration Act.

Public Outreach

Formal scoping began with publication of a notice of intent to prepare a comprehensive conservation plan and environmental assessment (EA) in the Federal Register on August 10, 2007 (72 FR 45059). In September 2008, a letter was sent to individuals at Texas Parks and Wildlife Department (TPWD), formally inviting them to participate in the development of the CCP. We received input from TPWD in January 2009, and have continued to involve them throughout the planning process. Information sheets were sent to the public, and news releases were sent to a variety of media outlets. The news release also aired on KSHN 99.9 FM Radio in Liberty, Texas. Three public open house meetings were held from November 30 through December 2, 2009. Additional written comments were received prior to these open house meetings. The meetings were held at three locations in the area, on three separate evenings. A variety of stakeholders contributed feedback at the open house meetings and via written comments; we used the feedback in development of the CCP.

CCP Alternatives We Are Considering

During the public scoping process with which we started work on this draft CCP, we, other governmental partners, Tribes, and the public, raised multiple issues. Our draft CCP addresses them. A full description of each alternative is in the EA. To address these issues, we developed and evaluated the following alternatives, summarized below.

Alternatives | A—No action alternative (current practices) | B—Improved habitat management and public use alternative | C—Optimal habitat management and public use (proposed action) alternative
Issues
Habitat and Wildlife Management Issues
1. Native Flora/Fauna Conservation | Conserve/restore bottomland hardwood forests. Restore native flora; reintroduce native fauna; manage native nuisance flora/fauna | Same as Alternative A, plus use prescribed fire for resource management and initiate baseline monitoring for flora and fauna | Same as Alternative B.
2. Invasive Flora/Fauna Management | Remove exotic and invasive flora/fauna as resources permit; prevent reintroduction of exotic and invasive flora/fauna as resources permit | Same as Alternative A, plus develop invasive species strike team and map “hotspots” to prioritize management efforts | Same as Alternative B.
3. Wetland Management | Maintain the integrity of water control structures/levees; conduct water-quality sampling and fish surveys | Same as Alternative A, plus conduct small-scale restoration of hydrological flow at Champion Lake South unit | Same as Alternative B.
4. Land Acquisition | Acquire lands from willing sellers within the approved acquisition boundary on a case-by-case basis | Update Trinity River Floodplain Habitat Stewardship Program and Land Protection Plan to update the acquisition boundary; assign refuge realty specialist to Trinity River NWR | Same as Alternative B.
5. Climate Change | Plant trees to sequester carbon; use “green” technologies wherever possible, and recycle | Same as Alternative A, plus gather baseline inventory and monitoring data | Same as Alternative B.
6. Resource Protection | Assign refuge law enforcement officer to patrol 25,000 acres, backed up by opportunistic observations by other refuge staff | Same as Alternative A, plus add patrols using other refuges' law enforcement officers | Same as Alternative B, plus add an additional officer to patrol up to 80,000 acres.
Visitor Services Issues
1. Hunting | Designate units open to hunting by permit only, for big game, upland game, and waterfowl, as is currently the case in eight units | Same as Alternative A, plus open one additional unit for big game hunting at Champion Lake South unit | Same as Alternative B, plus open one additional unit for big game and upland game hunting at Palmetto unit.
2. Fishing | Direct visitors to Champion Lake and Pickett's Bayou | Same as Alternative A, plus direct visitors to McGuire and Silver Lake units when piers are developed | Same as Alternative B, plus direct visitors to Brierwood unit once pier is developed.
3. Wildlife Observation | Open refuge to wildlife observation; direct visitors to eight public use areas | Same as Alternative A plus open one additional area at Champion Lake South unit | Same as Alternative B, plus open one additional area at Palmetto unit.
4. Wildlife Photography | Open refuge to photography; direct visitors to eight public use areas | Same as Alternative A plus construct photo blind at Brierwood unit | Same as Alternative B, plus construct photo blind at McGuire unit.
5. Environmental Education | Do not develop environmental education programs on the refuge | Develop off-refuge environmental education curricula, working with local schools to meet State requirements | Same as Alternative B, plus develop on-refuge program, upon the completion of the educational facility at Champion Lake Public Use Area.
6. Interpretation | The refuge hosts two on-refuge annual festivals, on Earth Day and on Free Family Fishing Day; host approximately six off-refuge annual events, such as county jubilee and various public speaking events | Same as Alternative A, plus host approximately 10 additional off- refuge events, as requested; develop and provide self-guided interpretative materials at Champion Lake and Brierwood units | Same as Alternative B, plus develop interpretive programs at visitor center; develop and provide kiosks in all areas with public use facilities.
Facilities Issues
1. Public Use Access | Allow vehicular on designated unpaved roads; allow walk-in-only access on eight designated units; allow boating access on Pickett's Bayou and Champion Lake | Same as Alternative A, plus improve road to McGuire Pond; establish canoe/kayak launch site at Brierwood unit | Same as Alternative B, plus open trail at Champion Lake South unit.
2. Public Use Facilities | Maintain current limited facilities at Champion Lake Public Use Area, including fishing pier, butterfly garden, parking, and portable toilet Seven other public use areas have only one parking lot and one photo blind each | Rehabilitate the Lodge at Champion Lake Public Use Area, pave the road at Champion Lake Public Use Area, and construct fishing pier at McGuire unit | Construct visitor center adjacent to headquarters; construct fishing piers at Brierwood unit; construct full-service bathroom at Champion Lake Public Use Area.
3. Administrative Facilities | Maintain refuge-owned headquarters and storage facility along FM 1011 | Construct a maintenance shop at Champion Lake equipment storage area | Rehabilitate the two-room log cabin at Champion Lake for use for staff and volunteer offices.

Public Availability of Documents

In addition to using any methods in ADDRESSES, you can view or obtain documents at the following locations:

• Trinity River NWR Headquarters Office, 601 FM 1011, Liberty, TX 77575, between the hours of 8 a.m. and 4:30 p.m., Monday through Friday.

• Our Web site: http://www.fws.gov/southwest/refuges/Plan/publicinvolvement.html.

• The following public libraries:

Library | Address | Phone No.
Liberty Municipal Library | 1710 Sam Houston Ave., Liberty, TX 77575 | 936-336-8901
Dayton Library | 307 W. Houston, Dayton, TX 77535 | 936-258-7060
Austin Memorial Library | 220 S. Bonham, Cleveland, TX 77327 | 281-592-3920
Tarkington Community Library | 3032 FM 163 Rd., Cleveland, TX 77327 | 281-592-5136

Submitting Comments/Issues for Comment

We consider comments substantive if they:

• Question, with reasonable basis, the accuracy of the information in the document;

• Question, with reasonable basis, the adequacy of the environmental assessment (EA);

• Present reasonable alternatives other than those presented in the EA; and/or

• Provide new or additional information relevant to the assessment.

Next Steps

After this comment period ends, we will analyze the comments and address them in the form of a final CCP and finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: January 31, 2012.
Joy E. Nicholopoulos,
Acting, Regional Director, Southwest Region.

[FR Doc. 2012-7400 Filed 3-27-12; 8:45 am]

BILLING CODE 4310-55-P